DEPARTMENT OF LABOR

Employment and Training Administration

[TA-W-51,701]

Kelly's Kids, Natchez, MS; Notice of Termination of Investigation

Pursuant to section 221 of the Trade Act of 1974, as amended, an investigation was initiated on May 7, 2003 in response to a petition filed by a company official on behalf of workers at Kelly's Kids, Natchez, Mississippi.

The company official has requested that the investigation be terminated.

Consequently, further investigation in this case would serve no purpose, and the investigation has been terminated.

Signed at Washington, DC, this 14th day of May, 2003.
Elliott S. Kushner,
Certifying Officer, Division of Trade Adjustment Assistance.

[FR Doc. 03-13411 Filed 5-28-03; 8:45 am]

BILLING CODE 4510-30-P